DEPARTMENT OF DEFENSE

Department of the Army

Notice of Availability of the Record of Decision (ROD) for Transformation at Fort Carson, CO

AGENCY: Department of the Army.

ACTION: Record of Decision.

SUMMARY: The Department of the Army announces the availability of a ROD documenting and explaining the decision to implement realignment actions, as directed by the Base Realignment and Closure (BRAC) Commission, and other Army transformation programs, at the Fort Carson military installation near Colorado Springs, Colorado. The decision is based on the analysis described in the Final Fort Carson Transformation Environmental Impact Statement (EIS), supporting studies, and comments provided during formal comment and review periods.

FOR FURTHER INFORMATION CONTACT: Fort Carson National Environmental Policy Act (NEPA) Coordinator, Directorate of Environmental Compliance and Management, 1638 Elwell Street, Building 6236, Fort Carson, Colorado 80913-4000; telephone: 719-526-4666; fax: 719-526-1705; or e-mail carsdecamnepa@conus.army.mil.

SUPPLEMENTARY INFORMATION: The Army has decided to proceed with implementing the Proposed Action described in the Final EIS. The Proposed Action is the Army's preferred alternative to implement three transformation programs at Fort Carson. The Army transformation programs include: BRAC 2005; Global Defense Posture Realignment (formerly known as Intergrated Global Presence and Basing Strategy); and the Army Modular Force initiative. These programs are part of the overall Army restructuring and are needed to prepare the Army's combat forces for deployment around the world. The Army's decision considered, and is consistent with, the analysis presented in the EIS, supporting studies, and comments provided during formal comment and review periods.

To implement transformation programs, the Proposed Action includes three primary components: (1) Changes in force structure resulting in a net gain of military units and personnel; (2) facility construction, renovation, and demolition; and (3) increased frequency of live-fire and maneuver training. The only alternative to the Proposed Action that was evaluated in the Final EIS, the No Action alternative, is not feasible because restationing has been directed by BRAC 2005.

All practicable means have been adopted to avoid adverse impacts on environmental and cultural resources identified in the Final EIS as a result of implementing the selected action. To the extent that such impacts cannot be avoided altogether, the Army will minimize them by implementing the best management practices and mitigation measures described in ROD.

The Army's decision reflects a proper balance among initiatives for protection of the environment, appropriate mitigation, and actions to achieve the Army's requirements.

Copies of the ROD can be requested from the NEPA Coordinator or downloaded at http://www.hqda.army.mil/acsim/brac/nepa_eis_docs.htm.

Dated: August 5, 2007.
Addison D. Davis, IV,
Deputy Assistant Secretary of the Army, Environment, Safety and Occupational Health.

[FR Doc. 07-3913 Filed 8-9-07; 8:45 am]

BILLING CODE 3710-08-M